DEPARTMENT OF AGRICULTURE

Natural Resources Conservation Service

Notice of Proposed Change to Section IV of the Field Office Technical Guide (FOTG) of the Natural Resources Conservation Service in Delaware

AGENCY: Natural Resources Conservation Service, Delaware, USDA.

ACTION: Notice of availability of proposed changes in Section IV of the FOTG for review and comment.

SUMMARY: It is the intention of NRCS in Delaware to issue the following new and revised conservation practice standard in Section IV of the FOTG: Nutrient Management (Code 590).

FOR FURTHER INFORMATION CONTACT: Elesa K. Cottrell, State Conservationist, Natural Resources Conservation Service (NRCS), Suite 101, 1203 College Park Dr., Dover, Delaware 19904-8713, telephone (302) 678-4160. Copies of the practice standard will be made available upon written request.

Notice of Proposed Change to Section IV of the Field Office Technical Guide (FOTG) of the Natural Resources Conservation Service in Delaware.

SUPPLEMENTARY INFORMATION: Section 343 of the Federal Agriculture Improvement and Reform Act of 1996 states that revisions made after enactment of the law to NRCS state technical guides used to carry out highly erodible land and wetland provisions of the law shall be made available for public review and comment. For the next 30 days, the NRCS in Delaware will receive comments relative to the proposed changes. Following that period, a determination will be made by the NRCS in Delaware regarding disposition of those comments and a final determination of change will be made.

Dated: February 1, 2002.
Elesa K. Cottrell,
State Conservationist.

[FR Doc. 02-4396 Filed 2-22-02; 8:45 am]

BILLING CODE 3410-16-P